DEPARTMENT OF DEFENSE

Office of the Secretary

[Docket ID: DOD-2025-OS-0540]

Proposed Collection; Comment Request

AGENCY: Office of the Under Secretary of Defense for Intelligence and Security (OUSD(I&S)), Department of Defense (DoD).

ACTION: 60-Day information collection notice.

SUMMARY: In compliance with the Paperwork Reduction Act of 1995, the Defense Counterintelligence and Security Agency (DCSA) announces a proposed public information collection and seeks public comment on the provisions thereof. Comments are invited on: whether the proposed collection of information is necessary for the proper performance of the functions of the agency, including whether the information shall have practical utility; the accuracy of the agency's estimate of the burden of the proposed information collection; ways to enhance the quality, utility, and clarity of the information to be collected; and ways to minimize the burden of the information collection on respondents, including through the use of automated collection techniques or other forms of information technology.

DATES: Consideration will be given to all comments received by November 3, 2025.

ADDRESSES: You may submit comments, identified by docket number and title, by any of the following methods:

Federal eRulemaking Portal: http://www.regulations.gov. Follow the instructions for submitting comments.

Mail: Department of Defense, Office of the Assistant to the Secretary of Defense for Privacy, Civil Liberties, and Transparency, Regulatory Directorate, 4800 Mark Center Drive, Mailbox #24 Suite 05F16, Alexandria, VA 22350-1700.

Instructions: All submissions received must include the agency name, docket number and title for this Federal Register document. The general policy for comments and other submissions from members of the public is to make these submissions available for public viewing on the internet at http://www.regulations.gov as they are received without change, including any personal identifiers or contact information.

FOR FURTHER INFORMATION CONTACT: To request more information on this proposed information collection or to obtain a copy of the proposal and associated collection instruments, please write to the Defense Counterintelligence and Security Agency, Operational Policy and Procedures Group, ATTN: Thomas A. Giancoli, 1901 S. Bell Street, 5th Floor, Arlington, VA 22202, 703-582-6108.

SUPPLEMENTARY INFORMATION:

Title; Associated Form; and OMB Number: Specific Authorization for Disclosure of Financial Information and Specific Authorization for Release of Behavioral Health and Related Medical Information; DCSA 343/344; OMB Control Number 0705-SARD.

Needs and Uses: The Specific Authorization for Disclosure of Financial Information (DCSA 343) is a special consent form that will allow DCSA access to certain financial records which are not otherwise accessible because they are protected under the provisions of the Right to Financial Privacy Act. The information collected on the DCSA 343 will be used to obtain specific financial information where there is evidence of financial concerns. The DCSA 343 will be used in background investigations to help establish facts required to determine whether the subject of the investigation should be adjudicated to be eligible for logical and physical access to Government facilities and systems; suitable or fit for Federal employment; fit to perform work on behalf of the Federal Government under a Government contract; eligible to hold a position that is sensitive for national security reasons; or eligible for access to classified information. The DCSA 343 is only used when information is unable to be obtained solely with the use of the Standard Form (SF) Authorization for Release of Information. The Specific Authorization for Release of Behavioral Health and Related Medical Information (DCSA 344) is a special consent form that will allow the DCSA access to certain restricted medical records which are not otherwise accessible because they are protected under the Health Insurance Portability and Accountability Act (HIPAA). The information collected on the DCSA 344 will be used to conduct a detailed medical interview and record review with the practitioner when the practitioner indicates on the SF Authorization for Medical Release of Medical Information Pursuant to the HIPAA that the subject of the investigation has a condition or treatment that could impair judgement, reliability, or trustworthiness; there is evidence of alcohol-related treatment or counseling; or there is evidence of drug-related treatment or counseling. The DCSA 344 will be used in background investigations to help establish facts required to determine whether the subject of the investigation should be adjudicated to be eligible for logical and physical access to Government facilities and systems; suitable or fit for Federal employment; fit to perform work on behalf of the Federal Government under a Government contract; eligible to hold a position that is sensitive for national security reasons; or eligible for access to classified information. DCSA's use of these collections will be limited to background investigations, conducted under the authority of Executive Order 13467 as amended by Executive Order 13869, requiring a deeper review of an individual's personal finances or sensitive medical information, strictly limited to the circumstances defined within and required by the Federal Personnel Vetting Investigative Standards.

Affected Public: Individuals or households.

Annual Burden Hours: 297.

Number of Respondents: 3,563.

Responses per Respondent: 1.

Annual Responses: 3,563.

Average Burden per Response: 5 minutes.

Frequency: On occasion.

Dated: August 27, 2025.
Stephanie J. Bost,
Alternate OSD Federal Register Liaison, Department of Defense.

[FR Doc. 2025-16679 Filed 8-29-25; 8:45 am]

BILLING CODE 6001-FR-P